DEPARTMENT OF EDUCATION

Office of Innovation and Improvement; Overview Information; DC School Choice Incentive Program; Notice Inviting Applications for New Awards for Fiscal Year (FY) 2009

Catalog of Federal Domestic Assistance (CFDA) Number: 84.370A.

Dates:

Applications Available: April 23, 2009.

Deadline for Notice of Intent to Apply: May 8, 2009.

Deadline for Transmittal of Applications: May 26, 2009.

Full Text of Announcement

I. Funding Opportunity Description

Purpose of Program: The DC School Choice Incentive Program, established under the DC School Choice Incentive Act of 2003 (Act), provides low-income parents residing in the District of Columbia (District) with expanded options for the education of their children.

Background: For FY 2009, the Department will be awarding one grant on a competitive basis to an eligible applicant to continue a scholarship program to provide students who currently have scholarships under this program with scholarships for the 2009-2010 school year. Students are eligible to receive scholarships under this program if they (1) are residents of the District, and (2) come from households whose income does not exceed 200 percent (or, in the case of an eligible student whose first year of participation in the program was an academic year ending in June 2005 or June 2006 and whose second or succeeding year is an academic year ending on or before June 2009, 300 percent) of the poverty line. These scholarships may be used to pay tuition and fees and transportation expenses, if any, to enable students to attend a participating District nonpublic elementary or secondary school.

Under the absolute priority established in this notice, funds awarded under this competition may only be used to award scholarships to students currently participating in this program. Accordingly, in addition to the requirements described in the preceding paragraph, to be eligible for a scholarship for the 2009-2010 school year, a student must currently be receiving a scholarship through the DC School Choice Incentive Program.

We are establishing this absolute priority in light of the prohibition in Public Law 111-8, the Omnibus Appropriations Act, 2009, against using funds appropriated under that law, or any other law, for scholarships under this program after the conclusion of the 2009-2010 school year and the direction in the Joint Explanatory Statement for Public Law 111-8 to limit scholarships for 2009-2010 to students who are currently receiving scholarships under this program. Specifically, Public Law 111-8 provides, with respect to this program that “use of any funds in this Act or any other [law] for opportunity scholarships after school year 2009-2010 shall only be available upon enactment of reauthorization of that program by Congress and the adoption of legislation by the District of Columbia approving such reauthorization.” In addition, the Joint Explanatory Statement for Public Law 111-8 directs that “[f]unding provided for the private scholarship program shall be used for currently-enrolled participants rather than new applicants.” The Chancellor of the District of Columbia Public Schools is directed to “promptly take steps to minimize potential disruption and ensure smooth transition for any students seeking enrollment in the public school system as a result of any changes made to the private scholarship program affecting periods after school year 2009-2010.” See the Joint Explanatory Statement, Division D, Title VIII, Federal Payment for School Improvement, at http://thomas.loc.gov/home/approp/app09.html.

Priorities: We are establishing this priority for the FY 2009 grant competition only in accordance with section 437(d)(2) of the General Education Provisions Act (GEPA), 20 U.S.C. 1232(d)(2).

Absolute Priority: For FY 2009, this priority is an absolute priority. Under 34 CFR 75.105(c)(3) we consider only applications that meet this priority.

This priority is:

Scholarships for Currently Enrolled Participants During the 2009-2010 School Year.

Scholarship funds must be used to provide scholarships during the 2009-2010 school year only to currently enrolled participants who are DC residents and meet the eligibility requirements related to family income. Funds awarded under this competition may not be used to provide scholarships for new applicants or for current scholarship recipients after the 2009-2010 school year.

Waiver of Proposed Rulemaking: Under the Administrative Procedure Act (5 U.S.C. 553), the Department generally offers interested parties the opportunity to comment on proposed priorities, selection criteria, and non-statutory requirements. Section 437(d)(2) of GEPA, however, allows the Secretary to exempt from rulemaking requirements, regulations where application of those requirements will cause extreme hardship to the intended beneficiaries of the program. Conducting notice-and-comment rulemaking for the absolute priority, selection criteria, and non-statutory requirement (in section III.3.(c)) established in this notice would preclude timely implementation of this program for the 2009-2010 school year and, thereby, cause extreme hardship to the intended beneficiaries of this program, namely those students who are currently receiving scholarships under this program and are eligible to receive scholarships in the 2009-2010 school year. In order to ensure the timely award of scholarships and continued participation of these students in this program for the upcoming school year, the Secretary has decided to forgo comment on the absolute priority, selection criteria, and non-statutory requirement (in section III.3.(c)) under section 437(d)(2) of GEPA. The absolute priority, selection criteria, and non-statutory requirement (in section III.3.(c)) will apply to the FY 2009 grant competition only.

Program Authority: DC Code §§ 38-1851.01—38-1851.11; Omnibus Appropriations Act, 2009, Public Law No. 111-8.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Discretionary grant.

Estimated Available Funds: $12,600,000.

Estimated Number of Awards: 1.

Note: The Department plans to fund this project entirely from FY 2009 funds.

Note: The Department is not bound by any estimates in this notice.

Project Period: Up to 12 months.

Budget Period: Up to 12 months.

III. Eligibility Information

1. Eligible Applicants:

(a) An educational entity of the District of Columbia Government.

(b) A nonprofit organization.

(c) A consortium of nonprofit organizations.

Note: To receive an award under this program, an applicant must ensure that a majority of the members of its voting board or governing organization are residents of the District of Columbia.

2. Cost Sharing or Matching: This program does not require cost sharing or matching.

3. Additional Requirements: (a) An eligible entity receiving a grant under this program may award a scholarship, for the second or any succeeding years of a student's participation in the scholarship program, to a student who is a DC resident and comes from a household whose income does not exceed 200 percent (or, in the case of an eligible student whose first year of participation in the program was an academic year ending in June 2005 or June 2006 and whose second or succeeding year is an academic year ending on or before June 2009, 300 percent) of the poverty line.

(b) An eligible entity must assure that it will comply with all requests regarding the evaluation carried out under section 309 of the Act. Additional information regarding this evaluation can be found in the application package for this program.

(c) An eligible entity must be willing and able to work with other entities affiliated with the Federal and District governments, as well as with other organizations that might conduct activities integral to the success of the program, including, as appropriate, determining the household income of scholarship recipients and ensuring the ongoing eligibility of schools participating in the program. Additionally, an eligible entity must demonstrate how it will communicate and coordinate with the current grantee, as needed, to ensure a seamless and smooth transition between the 2008-2009 and 2009-2010 school years for families and schools participating in the scholarship program.

4. Other: Definitions: As used in this program:

(a) Elementary school means an institutional day or residential school, including a public elementary charter school, that provides elementary education, as determined under District of Columbia law.

(b) Parent includes a legal guardian or other person standing in loco parentis (such as a grandparent or stepparent with whom the child lives, or a person who is legally responsible for the child's welfare).

(c) Poverty line means the poverty line (as defined by the Office of Management and Budget and revised annually in accordance with section 673(2) of the Community Services Block Grant Act) applicable to a family of the size involved.

(d) Secondary school means an institutional day or residential school, including a public secondary charter school, that provides secondary education, as determined under District of Columbia law, except that the term does not include any education beyond grade 12.

IV. Application and Submission Information

1. Address To Request Application Package: Michelle Armstrong, U.S. Department of Education, 400 Maryland Avenue, SW., Room 4W217, Washington, DC 20202-5970. Telephone: (202) 205-1729 or by e-mail: Michelle.Armstrong@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this competition.

Notice of Intent To Apply: The Department will be able to develop a more efficient process for reviewing grant applications if it has a better understanding of the number of entities that intend to apply for funding under this competition. Therefore, the Secretary strongly encourages each potential applicant to notify the Department by sending a short e-mail message indicating the applicant's intent to submit an application for funding. The e-mail need not include information regarding the content of the proposed application, only the applicant's intent to submit it. This e-mail notification should be sent to Michelle.Armstrong@ed.gov. Applicants that fail to provide this e-mail notification may still apply for funding.

Page Limit: The application narrative [Part III of the application] is where you, the applicant, address the selection criteria that reviewers use to evaluate your application. You must limit the application narrative [Part III] to the equivalent of no more than 25 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section [Part III].

3. Submission Dates and Times:

Applications Available: April 23, 2009.

Deadline for Notice of Intent To Apply: May 8, 2009.

Deadline for Transmittal of Applications: May 26, 2009.

Applications for grants under this program must be submitted in paper format by mail or hand delivery. For information (including dates and times) about how to submit your application by mail or hand delivery, please refer to section IV.6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. Information about Intergovernmental Review of Federal Programs under Executive Order 12372 is in the application package for this competition.

5. Funding Restrictions: Use of Funds.

(a) Scholarships.

(1) A grantee must use grant funds to provide currently participating students who are D.C. residents and who meet the household income requirements of this program with scholarships to pay the tuition, fees, and transportation expenses, if any, to enable them to attend a participating District nonpublic elementary school or secondary school of their choice. A grantee must ensure that the amount of any tuition or fees charged by a school to a student participating in the program does not exceed the amount of tuition or fees that the school customarily charges to students who do not participate in the program. An entity that receives an award under this program will be responsible for ensuring compliance with this requirement by each participating school.

(2) A grantee may award scholarships in varying amounts (subject to paragraph (b) of this section), with larger amounts going to students with the greatest need.

(b) Annual Limit on Amount of Scholarship: The amount of assistance provided to any eligible student by a grantee with funds received under this program may not exceed $7,500 for any academic year.

(c) Administrative Expenses: A grantee may use not more than 3 percent of the amount provided under the grant each year for the administrative expenses of carrying out its program.

We reference additional regulations outlining funding restrictions in the Applicable Regulations section in this notice.

6. Other Submission Requirements: Applications for grants under this competition must be submitted in paper format by mail or hand delivery.

a. Submission of Applications by Mail.

If you submit your application by mail (through the U.S. Postal Service or a commercial carrier), you must mail the original and two copies of your application, on or before the application deadline date, to the Department at the following address: U.S. Department of Education, Application Control Center, Attention: (CFDA Number 84.370A), LBJ Basement Level 1, 400 Maryland Avenue, SW., Washington, DC 20202-4260.

We request that you submit two additional copies of your application, in addition to the original and the required two copies (for a total of one original and four copies).

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

b. Submission of Applications by Hand Delivery.

If you submit your application by hand delivery, you (or a courier service) must deliver the original and two copies of your application by hand, on or before the application deadline date, to the Department at the following address: U.S. Department of Education, Application Control Center, Attention: (CFDA Number 84.370A), 550 12th Street, SW., Room 7041, Potomac Center Plaza, Washington, DC 20202-4260.

The Application Control Center accepts hand deliveries daily between 8:00 a.m. and 4:30:00 p.m., Washington, DC time, except Saturdays, Sundays, and Federal holidays.

We request that you submit two additional copies of your application, in addition to the original and the required two copies (for a total of one original and four copies).

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: We are establishing the following selection criteria for the FY 2009 grant competition only in accordance with section 437(d)(2) of GEPA, 20 U.S.C. 1232(d)(2). The maximum score for all of the selection criteria is 120 points. The maximum score for each criterion is indicated in parentheses with the criterion.

(a) Selection of students (up to 10 points). In determining the quality of the applicant's plan for the selection of students to receive scholarships, the Secretary considers the extent to which—

(i) The application provides a description of the lottery that would be used for selecting students to attend a participating school if more students apply to, and are accepted for enrollment by, that school than it can accommodate; and

(ii) The application provides assurances and appropriate documentation that the applicant, if funded, will cooperate with the evaluation contractor selected by the Department and the District of Columbia Government in planning and implementing the lottery for selecting program participants.

(b) Notification of parents (up to 10 points). In determining the quality of the applicant's plan to notify parents of currently participating students about schools they may attend, the Secretary considers the extent to which the application provides evidence that parents will receive sufficient information about their options to allow them to make informed decisions, including, but not limited to, information on each participating school about the qualifications of its teachers; the educational philosophy and available courses and programs of the school; the achievement of the school's students; student expectations (such as uniforms, discipline policy, honor code, and required classes); and the safety and school environment of the school.

(c) Amount of scholarship (up to 10 points). In determining the quality of the applicant's plan for establishing the amount of a scholarship to an eligible student, the Secretary considers the extent to which the applicant's methods—

(i) Provide a mechanism to award scholarships for tuition and fees, and transportation expenses, if any, in larger amounts to those eligible students with the greatest need, provided they do not exceed the maximum annual scholarship amount; and

(ii) Ensure that the amount of tuition and fees charged by a participating school to a scholarship student under the program will not exceed the amount of tuition and fees that the school customarily charges to students who do not participate in the program.

(d) Participating schools (up to 10 points). In determining the quality of the applicant's plan for identifying participating nonpublic schools, the Secretary considers the extent to which the application—

(i) Describes the applicant's plan to seek out non-public elementary and secondary schools that operate lawfully in the District, to participate in the program during the 2009-2010 school year;

(ii) Describes how the applicant will ensure that participating schools will comply with the requirements of the Act and will provide the information needed for the applicant to meet the reporting requirements of the Act; and

(iii) Describes how the applicant will ensure that participating schools are financially responsible and will use the funds received under this program effectively.

(e) Renewal of scholarships (up to 20 points). In determining the quality of the applicant's plan for the renewal of scholarships, the Secretary considers the applicant's methods for determining the eligibility of participating students to continue in the program.

(f) Quality of project personnel (up to 20 points). In determining the quality of the personnel of the proposed project, the Secretary considers the qualifications, including relevant training and experience, of the project director, other key personnel, and any project consultants in such areas as—

(i) Working with schools, parents, and government officials;

(ii) Operating a scholarship program; and

(iii) Establishing and maintaining record-keeping requirements.

(g) Organizational capability (up to 20 points). In determining the applicant's organizational capability, the Secretary considers—

(i) The amount and quality of experience the applicant has with the types of activities it proposes to undertake in its application, such as conducting outreach, administering funds, tracking scholarships, and ensuring that scholarship funds are used for the payment of tuition and fees and transportation expenses, if any, in accordance with the Act; and

(ii) The applicant's financial soundness.

(h) Reports (up to 10 points). In determining the quality of the applicant's reporting plan, the Secretary considers the extent to which the applicant's plan for assembling the information and submitting activities reports, achievement reports, and reports to parents complies with the requirements under section 310 of the Act.

(i) Collection of data (up to 10 points). In determining the quality of the applicant's plan to collect data, the Secretary considers the extent to which the applicant documents how it will cooperate with the evaluation contractor to collect data, including, but not limited to, student and parent demographics and income, parent perception of a student's current school (including safety), parent awareness of their choice options, contact information for parents, and consent forms for ongoing data collection.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The long-term performance indicator for this program is whether, at the end of the program, the student achievement gains of participants are greater than that of students in control or comparison groups. Data for the performance measure will be collected through the program evaluation.

VII. Agency Contact

FOR FURTHER INFORMATION CONTACT: Michelle Armstrong, U.S. Department of Education, 400 Maryland Avenue, SW., Room 4W217, Washington, DC 20202-5970. Telephone: (202) 205-1729 or by e-mail: Michelle.Armstrong@ed.gov. If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 20, 2009.
James H. Shelton III,
Assistant Deputy Secretary for Innovation and Improvement.

[FR Doc. E9-9351 Filed 4-22-09; 8:45 am]

BILLING CODE 4000-01-P